FEDERAL LABOR RELATIONS AUTHORITY

5 CFR Parts 2424, 2425, and 2473

Changes to Geographical Jurisdictions and in Case Handling Procedures

AGENCY: Federal Labor Relations Authority.

ACTION: Final rule.

SUMMARY: The Federal Labor Relations Authority (FLRA) is amending regulations listing the current addresses and describing the geographic jurisdictions of the FLRA, including the Authority component, the General Counsel, and the Federal Service Impasses Panel. These changes reflect the closing of the Chicago Regional Office and changes to the geographical jurisdictions of the Atlanta, Denver, San Francisco, and Washington, DC Regional Directors. The FLRA is further amending regulations to remove references to its Collaboration and Alternative Dispute Resolution Office (CADRO) following the elimination of non-statutory functions to comply with Executive Order 14210, Implementing the President's “Department of Government Efficiency” Workforce Optimization Initiative, (Feb. 11, 2025).

DATES: Effective August 29, 2025.

ADDRESSES: Written comments about this final rule can be emailed to fedregcomments@flra.gov or sent to the Case Intake and Publication Office, Federal Labor Relations Authority, 1400 K Street NW, Washington, DC 20424. All written comments will be available for public inspection during normal business hours at the Case Intake and Publication Office.

FOR FURTHER INFORMATION CONTACT: Erica Balkum, Chief, Case Intake and Publication, at (771) 444-5805 or fedregcomments@flra.gov.

SUPPLEMENTARY INFORMATION: Effective January 28, 1980, the Authority and the General Counsel published, at 45 FR 3482, January 17, 1980, final rules and regulations to govern the processing of cases by the Authority and the General Counsel under Chapter 71 of Title 5 of the United States Code. These rules and regulations are required by Title VII of the Civil Service Reform Act of 1978 and are set forth in 5 CFR chapter XIV.

The FLRA amends its regulations related to the FLRA's addresses and geographical jurisdictions. The FLRA has decided to close its Chicago Regional Office and reassign its jurisdiction to other Regional Directors. This office is being closed due to significant staff attrition (voluntary resignations and retirements) throughout the first eight months of 2025 and the impending expiration of the office's lease in December 2025. At the time of this publication, only one employee out of a previous eight remains administratively tied to this Regional Office. Additionally, the lone remaining employee resides outside the office's commuting area and works remotely.

Given the significant loss of staff, resulting underutilization of office space, and lease expiration, the FLRA has determined the best course of action is to close the Chicago Regional Office. The Authority expects no adverse effect on the quality or efficiency of case-handling to result from the closure.

These amendments update paragraphs (d) and (f) of Appendix A to 5 CFR chapter XIV to reflect the new organizational structure by removing the Chicago Regional Office from the list of current addresses, telephone numbers, and fax numbers of the FLRA's Regional Offices and by revising the FLRA's geographical jurisdictions.

For additional information regarding case handling procedures following the Chicago Regional Office closure, please go to www.flra.gov.

Further, in accordance with the President's direction to eliminate offices that are not statutorily-mandated, Executive Order 14210 § 3(c) & (e), the FLRA is eliminating CADRO, an office that is not statutorily-mandated. See 5 U.S.C. 7101-7135. Remaining components will continue to use Alternative Dispute Resolution (ADR), when appropriate, however there will no longer be a separate, dedicated FLRA office focusing exclusively on the use of ADR. CADRO services were always voluntary and at the discretion of the FLRA, as resources permitted.

These further amendments update parts 2424, 2425, and 2473 of 5 CFR chapter XIV to reflect that there will no longer be a CADRO office within the FLRA. To reflect this change, the FLRA amends its case-handling procedures for negotiability petitions and arbitration-award reviews to remove references to the voluntary use of CADRO.

Regulatory Procedures

Executive Order 12866, Regulatory Review

This final rule is not a significant regulatory action for the purposes of E.O. 12866 (58 FR 51735, Sept. 30, 1993).

Executive Order 13132, Federalism

This final rule will not have a substantial direct effect on the States, on the relationship between the Federal government and the States, or on the distribution of power and responsibilities among the various levels of government under E.O. 13132 (64 FR 43255, Aug. 4, 1999).

Executive Order 14192, Regulatory Repeal

This final rule is not a regulatory action under E.O. 14192 (90 FR 9065, Jan. 31, 2025).

Executive Order 14215, Ensuring Accountability for All Agencies

Pursuant to E.O. 14215, the Office of Information and Regulatory Affairs within the Office of Management and Budget has reviewed this final rule for compliance with applicable law.

Executive Order 14219, Deregulation Initiative

This final rule complies with the requirements of E.O. 14219 (90 FR 10583, Feb. 19, 2025).

Paperwork Reduction Act of 1995

The final rule contains no additional information collection or record-keeping requirements under the Paperwork Reduction Act of 1995, 44 U.S.C. 3501, et seq.

Regulatory Flexibility Act Certification

Pursuant to section 605(b) of the Regulatory Flexibility Act, 5 U.S.C. 605(b), the FLRA Chairman has determined that the final rule will not have a significant impact on a substantial number of small entities, because this final rule applies only to Federal agencies, Federal employees, and labor organizations representing those employees.

Small Business Regulatory Enforcement Fairness Act of 1996

This action is not a major rule as defined by section 804 of the Small Business Regulatory Enforcement Fairness Act of 1996. This final rule will not result in an annual effect on the economy of $100,000,000 or more; a major increase in costs or prices; or significant adverse effects on competition, employment, investment, productivity, innovation, or on the ability of United States-based companies to compete with foreign-based companies in domestic and export markets.

Unfunded Mandates Reform Act of 1995

This final rule will not result in the expenditure by state, local, and tribal governments, in the aggregate, or by the private sector, of $100,000,000 or more in any one year, and it will not significantly or uniquely affect small governments. Therefore, no actions were deemed necessary under the provisions of the Unfunded Mandates Reform Act of 1995.

List of Subject in 5 CFR Parts 2424, 2425, and 2473

Administrative practice and procedure.

For the reasons discussed in the preamble, the FLRA amends 5 CFR parts 2424, 2425, and 2473 as follows:

PART 2424—NEGOTIABILITY PROCEEDINGS

1. The authority citation for part 2424 continues to read as follows:

Authority: 5 U.S.C. 7134.

2. Revise § 2424.1 to read as follows:

§ 2424.1 Applicability of this part.

This part applies to all petitions for review filed on or after August 29, 2025.

§ 2424.2 [Amended]

3. Amend § 2424.2 by removing and reserving paragraph (b).

4. Revise the heading of Subpart B to read as follows:

Subpart B—Requesting and Providing Allegations Concerning the Duty To Bargain

§ 2424.10 [Removed and Reserved]

5. Remove and reserve § 2424.10.

PART 2425—REVIEW OF ARBITRATION AWARDS

6. The authority citation for part 2425 continues to read as follows:

Authority: 5 U.S.C. 7134.

7. Revise § 2425.1 to read as follows:

§ 2425.1 Applicability of this part.

This part applies to all arbitration cases in which exceptions are filed with the Authority, pursuant to 5 U.S.C. 7122, on or after August 29, 2025.

§ 2425.8 [Removed and Reserved]

8. Remove and reserve § 2425.8.

PART 2473—SUBPOENAS

9. The authority citation for part 2473 continues to read as follows:

Authority: 5 U.S.C. 7119, 7134.

10. Amend Appendix A to 5 CFR chapter XIV by:

a. Removing paragraph (d)(3);

b. Redesignating paragraphs (d)(4) and (d)(5) as (d)(3) and (d)(4); and

c. Revising paragraph (f).

The revision reads as follows:

Appendix A to 5 CFR Chapter XIV—Current Addresses and Geographic Jurisdictions

* * * * *

(f) The geographic jurisdictions of the Regional Directors of the Federal Labor Relations Authority are as follows:

State or other locality | Regional office
Alabama | Atlanta.
Alaska | San Francisco.
Arizona | San Francisco.
Arkansas | Denver.
California | San Francisco.
Colorado | Denver.
Connecticut | Washington, DC.
Delaware | Washington, DC.
District of Columbia | Washington, DC.
Florida | Atlanta.
Georgia | Atlanta.
Hawaii, and all land and water areas west of the continents of North and South America (except coastal islands) to long. 90 degrees East | San Francisco.
Idaho | Denver.
Illinois | Denver.
Indiana | Denver.
Iowa | Denver.
Kansas | Denver.
Kentucky | Atlanta.
Louisiana | Denver.
Maine | Washington, DC.
Maryland | Washington, DC.
Massachusetts | Washington, DC.
Michigan | Washington, DC.
Minnesota | Denver.
Mississippi | Atlanta.
Missouri | Denver.
Montana | Denver.
Nebraska | Denver.
Nevada | San Francisco.
New Hampshire | Washington, DC.
New Jersey | Washington, DC.
New Mexico | San Francisco.
New York | Washington, DC.
North Carolina | Atlanta.
North Dakota | Denver.
Ohio | Washington, DC.
Oklahoma | Denver.
Oregon | San Francisco.
Pennsylvania | Washington, DC.
Puerto Rico and coastal islands | Atlanta.
Rhode Island | Washington, DC.
South Carolina | Atlanta.
South Dakota | Denver.
Tennessee | Atlanta.
Texas | San Francisco.
Utah | Denver.
Vermont | Washington, DC.
Virginia | Washington, DC.
Washington | Denver.
West Virginia | Washington, DC.
Wisconsin | Denver.
Wyoming | Denver.
Virgin Islands | Atlanta.
Panama/limited FLRA jurisdiction | Atlanta.
All land and water areas east of the continents of North and South America to long. 90 degrees East, except the Virgin Islands, Panama/limited FLRA jurisdiction, Puerto Rico and coastal islands | Washington, DC.

Dated: August 27, 2025.
Thomas Tso,
Solicitor, Federal Labor Relations Authority.

[FR Doc. 2025-16660 Filed 8-28-25; 8:45 am]

BILLING CODE 7627-01-P